FEDERAL COMMUNICATIONS COMMISSION

47 CFR Part 0

[GN Docket No. 25-133; FCC 25-40; FR ID 306252]

Delete, Delete, Delete; Delegations of Authority

AGENCY: Federal Communications Commission.

ACTION: Final rule.

SUMMARY: In this document, the Federal Communications Commission modifies its delegation of authority rules to provide clarity and uniformity regarding the use of delegated authority to adopt rule changes that are exempt from prior notice and comment under the Administrative Procedure Act.

DATES: This rule is effective August 4, 2025.

FOR FURTHER INFORMATION CONTACT: Marcus Maher, Federal Communications Commission, Office of General Counsel. Email: Marcus.Maher@fcc.gov; telephone: (202) 418-2339.

SUPPLEMENTARY INFORMATION: This is a summary of the final rule portions of the Commission's Direct Final Rule, GN Docket No. 25-133; FCC 25-40, adopted on July 24, 2025, and released on July 28, 2025. The full text of this document is available for public inspection and can be downloaded at https://www.fcc.gov/document/fcc-deletes-obsolete-telegraph-rabbit-ear-receiver-phone-booth-rules-0. Alternative formats are available for people with disabilities (Braille, large print, electronic files, audio format) by sending an email to fcc504@fcc.gov or calling the Commission's Consumer and Governmental Affairs Bureau at (202) 418-0530 (voice), (202) 418-0432 (TTY).

Procedural Matters

Paperwork Reduction Act. This document does not contain new or modified information collections subject to the Paperwork Reduction Act of 1995 (PRA), 44 U.S.C. 3501-3521. In addition, therefore, it does not contain any new or modified information collection burden for small business concerns with fewer than 25 employees, pursuant to the Small Business Paperwork Relief Act of 2002, 44 U.S.C. 3506(c)(4).

Congressional Review Act. The Commission has determined, and the Administrator of the Office of Information and Regulatory Affairs, Office of Management and Budget concurs, that this rule is “non-major” under the Congressional Review Act, 5 U.S.C. 804(2). The Commission will send a copy of this Direct Final Rule to Congress and the Government Accountability Office pursuant to 5 U.S.C. 801(a)(1)(A).

Synopsis

While we intend to use direct final rule procedures at the full Commission level, in recognition of past actions on delegated authority to adopt or repeal some rules without notice and comment, we take this opportunity to reaffirm that all Bureaus and Offices may continue to take such actions in situations that are exempt from the Administrative Procedure Act's (APA's) notice-and-comment requirements, consistent with such actions by Bureaus and Offices historically. To ensure uniformity in this regard and to address what, by historical happenstance, has resulted in varied formulations throughout our rules, we take this opportunity to standardize the delegated authority of Bureaus and Offices to act without notice and comment on matters that fall within the APA's good cause exception and otherwise do not involve new or novel issues. While rule changes adopted via direct final rule procedures are premised on the APA's good cause exception from notice and comment, our action clarifying and unifying the wording of delegations of authority to Bureaus and Offices also relies on a distinct exception from notice and comment under the APA—namely, the notice and comment exception for rules of “agency organization, procedure, or practice.” Delegation of authority to Bureaus and Offices bears simply on who within the agency will be acting, and not on issues of substance—thus fitting comfortably within the APA's notice and comment exception for rules of “agency organization, procedure, or practice.” In clarifying and affirming the delegated authority as historically used by Bureaus and Offices to adopt rule changes exempt from prior notice and comment under the APA, we find nothing that would cause the delegations at issue here to constitute substantive rules.

Ordering Clauses

It is ordered that the amendments of the Commission's rules as set forth in this document shall be effective upon Federal Register publication of the specified amendments to the part 0 rules, which also shall serve as the date of public notice of that action. Because changes to our rules governing delegations of authority involve agency organization, procedure, or practice rather than “a substantive rule,” they are not subject to the default requirement that they take effect on or after 30 days after Federal Register publication.

It is further ordered that the Office of the Managing Director, Performance Program Management, shall send a copy of this Direct Final Rule in a report to be sent to Congress and the Government Accountability Office pursuant to the Congressional Review Act, 5 U.S.C. 801(a)(1)(A).

List of Subjects in 47 CFR Part 0

Authority delegations (Government agencies); Organization and functions (Government agencies).

Federal Communications Commission.
Marlene Dortch,
Secretary.

Final Rules

For the reasons discussed in the preamble, the Federal Communications Commission amends part 0 of Title 47 of the Code of Federal Regulations as follows:

PART 0—COMMISSION ORGANIZATION

1. The authority citation for part 0 continues to read as follows:

Authority: 47 U.S.C. 151, 154(i), 154(j), 155, 225, 409, and 1754, unless otherwise noted.

Subpart B—Delegations of Authority

2. Amend § 0.231 by adding paragraph (m) to read as follows:

§ 0.231 Authority delegated.

* * * * *

(m) Notwithstanding any other provision of this section, the Managing Director is delegated authority to adopt changes to rules the Office of Managing Director administers where the rule changes are exempt from prior notice and comment under the Administrative Procedure Act, 5 U.S.C. 553(b), and where the action on delegated authority is not new or novel.

3. Amend § 0.241 by adding paragraph (n) to read as follows:

§ 0.241 Authority delegated.

* * * * *

(n) Notwithstanding any other provision of this section, the Chief of the Office of Engineering and Technology is delegated authority to adopt changes to rules the Office of Engineering and Technology administers where the rule changes are exempt from prior notice and comment under the Administrative Procedure Act, 5 U.S.C. 553(b), and where the action on delegated authority is not new or novel.

4. Amend § 0.251 by adding paragraph (k) to read as follows:

§ 0.251 Authority delegated.

* * * * *

(k) Notwithstanding any other provision of this section, the General Counsel is delegated authority to adopt changes to rules the Office of General Counsel administers where the rule changes are exempt from prior notice and comment under the Administrative Procedure Act, 5 U.S.C. 553(b), and where the action on delegated authority is not new or novel.

5. Amend § 0.261 by adding paragraph (c) to read as follows:

§ 0.261 Authority delegated.

* * * * *

(c) Notwithstanding any other provision of this section, the Chief of the Space Bureau is delegated authority to adopt changes to rules the Space Bureau administers where the rule changes are exempt from prior notice and comment under the Administrative Procedure Act, 5 U.S.C. 553(b), and where the action on delegated authority is not new or novel.

6. Amend § 0.271 by adding paragraph (j) to read as follows:

§ 0.271 Authority delegated.

* * * * *

(j) Notwithstanding any other provision of this section, the Chief of the Office of Economics and Analytics is delegated authority to adopt changes to rules the Office of Economics and Analytics administers where the rule changes are exempt from prior notice and comment under the Administrative Procedure Act, 5 U.S.C. 553(b), and where the action on delegated authority is not new or novel.

7. Amend § 0.283 by adding paragraph (e) to read as follows:

§ 0.283 Authority delegated.

* * * * *

(e) Notwithstanding any other provision of this section, the Chief of the Media Bureau is delegated authority to adopt changes to rules the Media Bureau administers where the rule changes are exempt from prior notice and comment under the Administrative Procedure Act, 5 U.S.C. 553(b), and where the action on delegated authority is not new or novel.

8. Amend § 0.291 by adding paragraph (j) to read as follows:

§ 0.291 Authority delegated.

* * * * *

(j) Notwithstanding any other provision of this section, the Chief of the Wireline Competition Bureau is delegated authority to adopt changes to rules the Wireline Competition Bureau administers where the rule changes are exempt from prior notice and comment under the Administrative Procedure Act, 5 U.S.C. 553(b), and where the action on delegated authority is not new or novel.

9. Amend § 0.311 by adding paragraph (c) to read as follows:

§ 0.311 Authority delegated.

* * * * *

(c) Notwithstanding any other provision of this section, the Chief of the Enforcement Bureau is delegated authority to adopt changes to rules the Enforcement Bureau administers where the rule changes are exempt from prior notice and comment under the Administrative Procedure Act, 5 U.S.C. 553(b), and where the action on delegated authority is not new or novel.

10. Amend § 0.331 by adding paragraph (k) to read as follows:

§ 0.331 Authority delegated.

* * * * *

(k) Notwithstanding any other provision of this section, the Chief of the Wireless Telecommunications Bureau is delegated authority to adopt changes to rules the Wireless Telecommunications Bureau administers where the rule changes are exempt from prior notice and comment under the Administrative Procedure Act, 5 U.S.C. 553(b), and where the action on delegated authority is not new or novel.

11. Add an undesignated center heading below § 0.347 to read as follows:

Office of International Affairs

12. Amend § 0.351 by adding paragraph (c) to read as follows:

§ 0.351 Authority delegated.

* * * * *

(c) Notwithstanding any other provision of this section, the Chief of the Office of International Affairs is delegated authority to adopt changes to rules the Office of International Affairs administers where the rule changes are exempt from prior notice and comment under the Administrative Procedure Act, 5 U.S.C. 553(b), and where the action on delegated authority is not new or novel.

13. Amend § 0.361 by adding paragraph (d) to read as follows:

§ 0.361 Authority delegated.

* * * * *

(d) Notwithstanding any other provision of this section, the Chief of the Consumer and Governmental Affairs Bureau is delegated authority to adopt changes to rules the Consumer and Governmental Affairs Bureau administers where the rule changes are exempt from prior notice and comment under the Administrative Procedure Act, 5 U.S.C. 553(b), and where the action on delegated authority is not new or novel.

14. Amend § 0.371 by adding paragraph (i) to read as follows:

§ 0.371 Authority delegated.

* * * * *

(i) Notwithstanding any other provision of this section, the Director of the Office of Communications Business Opportunities is delegated authority to adopt changes to rules the Office of Communications Business Opportunities administers where the rule changes are exempt from prior notice and comment under the Administrative Procedure Act, 5 U.S.C. 553(b), and where the action on delegated authority is not new or novel.

15. Amend § 0.391 by adding paragraph (j) to read as follows:

§ 0.391 Authority delegated.

* * * * *

(j) Notwithstanding any other provision of this section, the Director of the Office of Workplace Diversity is delegated authority to adopt changes to rules the Office of Workplace Diversity administers where the rule changes are exempt from prior notice and comment under the Administrative Procedure Act, 5 U.S.C. 553(b), and where the action on delegated authority is not new or novel.

16. Amend § 0.392 by adding paragraph (l) to read as follows:

§ 0.392 Authority delegated.

* * * * *

(l) Notwithstanding any other provision of this section, the Chief of the Public Safety and Homeland Security Bureau is delegated authority to adopt changes to rules the Public Safety and Homeland Security Bureau administers where the rule changes are exempt from prior notice and comment under the Administrative Procedure Act, 5 U.S.C. 553(b), and where the action on delegated authority is not new or novel.

[FR Doc. 2025-14702 Filed 8-1-25; 8:45 am]

BILLING CODE 6712-01-P